DEPARTMENT OF ENERGY

[Docket Nos. PP 39-1 and PP-96-2]

Applications To Transfer Presidential Permits; Boise Cascade Corporation and Boise White Paper, LLC

AGENCY: Office of Fossil Energy, DOE.

ACTION: Notice of applications.

SUMMARY: Boise Cascade Corporation (Boise) and Boise White Paper, L.L.C. (BWP) have jointly applied to transfer Presidential Permits PP-39 and PP-96 from Boise to BWP.

DATES: Comments, protests or requests to intervene must be submitted on or before December 27, 2004.

ADDRESSES: Comments, protests or requests to intervene should be addressed as follows: Office of Coal & Power Import/Export (FE-27), Office of Fossil Energy, U.S. Department of Energy, 1000 Independence Avenue, SW., Washington, DC 20585-0350 (FAX 202-287-5736).

FOR FURTHER INFORMATION CONTACT: Ellen Russell (Program Office) 202-586-9624 or Michael Skinker (Program Attorney) 202-586-2793.

SUPPLEMENTARY INFORMATION: The construction, operation, maintenance, and connection of facilities at the international border of the United States for the transmission of electric energy between the United States and a foreign country is prohibited in the absence of a Presidential permit issued pursuant to Executive Order (EO) 10485, as amended by EO 12038. Existing Presidential permits are not transferable or assignable. However, in the event of a proposed voluntary transfer of physical facilities, in accordance with the regulations at 10 CFR 205.323, the existing holder of a permit and the transferee are required to a file joint application for transfer with the Department of Energy (DOE) that includes a statement of reasons for the transfer.

On November 7, 1966, the Federal Power Commission, the predecessor agency of the DOE, issued Presidential Permit PP-39 to Boise for a double circuit 6.6 kilovolt (kV) electrical transmission line (operated as a single circuit) that crosses the United States border with Canada at International Falls, Minnesota.

On July 7, 1994, DOE issued Presidential Permit PP-96, as amended, to Boise for a 115-kV electrical transmission line that crosses the United States border with Canada in the vicinity of International Falls, Minnesota. These facilities share the support structure with a 115-kV international transmission line owned and operated by Minnesota Power and authorized in Presidential Permit PP-78.

On November 1, 2004, Boise and BWP (collectively, the “Applicants”) jointly filed an application with DOE to transfer Presidential Permits PP-39 and PP-96 from Boise to BWP. Boise and BWP have entered into a purchase and sale agreement that will result in Boise selling its Minnesota paper mill and electrical assets and exiting the paper business in Minnesota. BWP is a newly-formed holding company owned by Boise Cascade and will be a privately held company. In a supplemental filing in this docket on November 19, 2004, Boise notified DOE that the asset sale of the international transmission facilities was completed on October 29, 2004.

In these applications, the Applicants state that there will be no physical changes to the existing permitted facilities.

Procedural Matters: Any person desiring to become a party to these proceedings or to be heard by filing comments or protests to these applications should file a petition to intervene, comment or protest at the address provided above in accordance with §§ 385.211 or 385.214 of the FERC's Rules of Practice and Procedures (18 CFR 385.211, 385.214). Fifteen copies of each petition and protest should be filed with the DOE on or before the date listed above.

Comments on the joint applications to transfer Presidential Permit PP-39 or PP-96 from Boise to BWP should be clearly marked with Dockets PP-39-1 and PP-96-2. Dennis L. Radocha, Associate General Counsel, Boise Cascade Corporation, 1111 West Jefferson Road, P.O. Box 50, Boise, ID 83728; Brian R. Land, Esq., Kirkland & Ellis LLP, 655 Fifteenth Street, NW., Suite 1200, Washington, DC 20005; and Terry Ward, Vice President, Minnesota Operations, International Falls Paper Mill, Boise Paper Solutions, Boise Cascade Corporation, 400 Second Street, International Falls, MN 56649-2387.

Before a Presidential permit may be issued or amended, the DOE must determine that the proposed action(s) will not adversely impact on the reliability of the U.S. electric power supply system. In addition, DOE must consider the environmental impacts of the proposed action(s) pursuant to the National Environmental Policy Act of 1969. DOE also must obtain the concurrence of the Secretary of State and the Secretary of Defense before taking final action on a Presidential permit application.

Copies of these applications will be made available, upon request, for public inspection and copying at the address provided above or by accessing the Fossil Energy Home Page at http://www.fe.doe.gov. Upon reaching the Fossil Energy Home page, select “Electricity Regulation,” and then “Pending Proceedings” from the options menus.

Issued in Washington, DC, on November 18, 2004.
Anthony J. Como,
Deputy Director, Electric Power Regulation, Office of Fossil Energy.

[FR Doc. 04-26040 Filed 11-23-04; 8:45 am]

BILLING CODE 6450-01-P